DEPARTMENT OF HEALTH AND HUMAN SERVICES

Temporary Reassignment of State, Tribal, and Local Personnel During a Public Health Emergency; Correction

AGENCY: Department of Health and Human Services (HHS), Office of the Secretary.

ACTION: Notice, correction.

SUMMARY: This document corrects one technical error that appeared in the final guidance published in the Federal Register on April 1, 2016 (81 OFR 18865), entitled “Temporary Reassignment of State, Tribal, and Local Personnel During a Public Health Emergency.”

DATES: This correction is effective on April 12, 2016.

ADDRESSES: Copy of the final guidance may be obtained at www.PHE.gov/TemporaryReassignment.

FOR FURTHER INFORMATION CONTACT: For additional information, please contact: Sally Phillips, RN, Ph.D., Deputy Assistant Secretary, Office of Policy and Planning, Office of the Assistant Secretary for Preparedness and Response, 200 Independence SW., Washington, DC 20004.

SUPPLEMENTARY INFORMATION:

Correction: In FR Doc. 16-07404, published on April 1, 2016, (81 FR 18865) make the following correction. On page 18865, in the second column, correct the Web site address to read: www.PHE.gov/TemporaryReassignment.

Dated: April 6, 2016.
Wilma Robinson,
Deputy Executive Secretary to the Department, U.S. Department of Health and Human Services.

[FR Doc. 2016-08289 Filed 4-11-16; 8:45 am]

BILLING CODE 4150-37-P